NATIONAL TRANSPORTATION SAFETY BOARD

Sunshine Act Meeting

Agenda

TIME AND DATE: 9:30 a.m., Tuesday, September 28, 2010.

PLACE: NTSB Conference Center, 429 L'Enfant Plaza SW., Washington, DC 20594.

Status: The ONE item is open to the public.

Matters To Be Considered

8157A Highway Accident Report—Truck-Tractor Semitrailer Rear-End Collision Into Passenger Vehicles on Interstate 44, Near Miami, Oklahoma, June 26, 2009.

News Media Contact: Telephone: (202) 314-6100.

The press and public may enter the NTSB Conference Center one hour prior to the meeting for set up and seating.

Individuals requesting specific accommodations should contact Rochelle Hall at (202) 314-6305 by Friday, September 24, 2010.

The public may view the meeting via a live or archived webcast by accessing a link under “News & Events” on the NTSB home page at http://www.ntsb.gov.

FOR MORE INFORMATION CONTACT: Candi Bing, (202) 314-6403.

Friday, September 3, 2010.
Candi R. Bing,
Federal Register Liaison Officer.

[FR Doc. 2010-22549 Filed 9-3-10; 4:15 pm]

BILLING CODE 7533-01-P